DEPARTMENT OF ENERGY

Federal Energy Regulatory Commission

Combined Notice of Filings #2

Take notice that the Commission received the following electric rate filings:

Docket Numbers: ER16-2414-000.

Applicants: PJM Interconnection, L.L.C.

Description: § 205(d) Rate Filing: Service Agreement Nos. 4511 and 4512, Queue Positions AB1-127 and AB1-128 to be effective 7/13/2016.

Filed Date: 8/12/16.

Accession Number: 20160812-5145.

Comments Due: 5 p.m. ET 9/2/16.

Docket Numbers: ER16-2415-000.

Applicants: ISO New England Inc.

Description: ISO New England Inc. submits Second Quarter 2016 Capital Budget Report.

Filed Date: 8/12/16.

Accession Number: 20160812-5153.

Comments Due: 5 p.m. ET 9/2/16.

Docket Numbers: ER16-2416-000.

Applicants: Central Maine Power Company.

Description: § 205(d) Rate Filing: Amended CSIA with Brookfield White Pine Hydro LLC to be effective 8/1/2016.

Filed Date: 8/12/16.

Accession Number: 20160812-5160.

Comments Due: 5 p.m. ET 9/2/16.

Docket Numbers: ER16-2417-000.

Applicants: Midcontinent Independent System Operator, Inc.

Description: Compliance filing: 2016-08-12_Removal of MVP Pricing Limitation to PJM (ER10-1791) to be effective 7/13/2016.

Filed Date: 8/12/16.

Accession Number: 20160812-5197.

Comments Due: 5 p.m. ET 9/2/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 12, 2016.
Kimberly D. Bose,
Secretary.

[FR Doc. 2016-19750 Filed 8-17-16; 8:45 am]

BILLING CODE 6717-01-P